DEPARTMENT OF TRANSPORTATION

Federal Motor Carrier Safety Administration

[Docket No. FMCSA-2025-0325]

Agency Information Collection Activities; Renewal of an Approved Information Collection: Transportation of Hazardous Materials; Highway Routing

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled, “Transportation of Hazardous Materials, Highway Routing.” The information reported by States and Indian Tribes is necessary to identify designated and restricted routes and restrictions or limitations affecting how motor carriers may transport certain hazardous materials on highways, including dates that such routes were established and information on subsequent changes or new hazardous materials routing designations.

DATES: Comments on this notice must be received on or before January 20, 2026.

ADDRESSES: You may submit comments identified by Docket Number FMCSA-2025-0325 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Ms. Melissa Williams, Office of Safety, Hazardous Materials Division, DOT, FMCSA, 1200 New Jersey Avenue SE, Washington, DC 20590-0001; (202) 366-4163; melissa.williams@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-0325), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0325/document, click on this notice, click “Comment,” and type your comment into the text box on the following screen.

If you submit your comments by mail or hand delivery, submit them in an unbound format, no larger than 8½ by 11 inches, suitable for copying and electronic filing.

FMCSA will consider all comments and material received during the comment period.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

The data for the Transportation of Hazardous Materials; Highway Routing ICR is collected under authority of 49 U.S.C. 5112 and 5125. Specifically, 49 U.S.C. 5112(c) requires that the Secretary of Transportation, in coordination with the States, “shall update and publish periodically a list of currently effective hazardous material highway route designations.” This authority is delegated to FMCSA in 49 CFR 1.87(d)(2).

In § 397.73, FMCSA requires that each State and Indian Tribe, through its routing agency, provide information identifying new, or changes to existing, hazardous materials routing designations within its jurisdiction within 60 days of their establishment (or 60 days of the change). That information is collected and consolidated by FMCSA and published annually, in whole or as updates, in the Federal Register and on the Agency's website at https://www.fmcsa.dot.gov/regulations/hazardous-materials/national-hazardous-materials-route-registry.

Title: Transportation of Hazardous Materials, Highway Routing.

OMB Control Number: 2126-0014.

Type of Request: Renewal of a currently approved ICR.

Respondents: The reporting burden is shared by 50 States, the District of Columbia, Indian Tribes with designated routes, and U.S. Territories including Puerto Rico, American Samoa, Guam, the Commonwealth of the Northern Mariana Islands, and the U.S. Virgin Islands.

Estimated Number of Respondents: 57 [36 States + the District of Columbia, with designated hazardous materials highway routes + 19 States/U.S. Territories without designated hazardous materials highway routes + 1 Indian Tribe with a designated route = 57].

Estimated Time per Response: 15 minutes.

Expiration Date: April 30, 2026.

Frequency of Response: Once every 2 years, or as things change.

Estimated Total Annual Burden: 7.125 hours [57 annual respondents × 1 response per 2 years × 15 minutes per response/60 minutes per response = 7.125 hours.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Jonathan Mueller,
Acting Associate Administrator Office of Research and Registration.

[FR Doc. 2025-20127 Filed 11-17-25; 8:45 am]

BILLING CODE 4910-EX-P